SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: May 1-31, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above.

Water Source Approval—Issued Under 18 CFR 806.22(f)

1. RENEWAL—Chesapeake Appalachia, L.L.C.; Pad ID: Herbert Drilling Pad; ABR-201404001.R2; Harford and Lenox Townships, Susquehanna County, Pa.; Consumptive Use of Up to 7.5000 mgd; Approval Date: May 6, 2024.

2. Pennsylvania General Energy Company, L.L.C.; Pad ID: COP Tract 726 Pad F; ABR-202405001; Plunketts Creek Township, Lycoming County, Pa.; Consumptive Use of Up to 4.0000 mgd; Approval Date: May 12, 2024.

3. RENEWAL—Beech Resources, LLC; Pad ID: Premier Well Site; ABR-201905002.R1; Lycoming and Old Lycoming Townships, Lycoming County, Pa.; Consumptive Use of Up to 3.0000 mgd; Approval Date: May 12, 2024.

4. RENEWAL—Chesapeake Appalachia, L.L.C.; Pad ID: Freed; ABR-201204014.R2; Albany Township, Bradford County, Pa.; Consumptive Use of Up to 7.5000 mgd; Approval Date: May 12, 2024.

5. RENEWAL—Chesapeake Appalachia, L.L.C.; Pad ID: Molly J 2; ABR-201905001.R1; Monroe Township, Bradford County, Pa.; Consumptive Use of Up to 7.5000 mgd; Approval Date: May 12, 2024.

6. RENEWAL—Chesapeake Appalachia, L.L.C.; Pad ID: Reilly; ABR-201204015.R2; Colley Township, Sullivan County, Pa.; Consumptive Use of Up to 7.5000 mgd; Approval Date: May 12, 2024.

7. RENEWAL—Coterra Energy Inc.; Pad ID: PetersenH P1; ABR-201205002.R2; Dimock Township, Susquehanna County, Pa.; Consumptive Use of Up to 5.0000 mgd; Approval Date: May 12, 2024.

8. RENEWAL—Seneca Resources Company, LLC; Pad ID: PHC 4H; ABR-20090501.R3; Lawrence Township, Clearfield County, Pa.; Consumptive Use of Up to 4.0000 mgd; Approval Date: May 12, 2024.

9. RENEWAL—Seneca Resources Company, LLC; Pad ID: PHC 5H; ABR-20090502.R3; Lawrence Township, Clearfield County, Pa.; Consumptive Use of Up to 4.0000 mgd; Approval Date: May 12, 2024.

10. RENEWAL—SWN Production Company, LLC; Pad ID: Gaylord Pad; ABR-201204020.R2; Jackson Township, Susquehanna County, Pa.; Consumptive Use of Up to 4.9990 mgd; Approval Date: May 12, 2024.

11. RENEWAL—SWN Production Company, LLC; Pad ID: Glover Pad; ABR-201204019.R2; Thompson Township, Susquehanna County, Pa.; Consumptive Use of Up to 4.9990 mgd; Approval Date: May 12, 2024.

12. RENEWAL—SWN Production Company, LLC; Pad ID: Page Pad; ABR-201204021.R2; Jackson Township, Susquehanna County, Pa.; Consumptive Use of Up to 4.9990 mgd; Approval Date: May 12, 2024.

13. RENEWAL—SWN Production Company, LLC; Pad ID: Preston-Perkins; ABR-201204025.R2; Stevens Township, Bradford County, Pa.; Consumptive Use of Up to 4.9990 mgd; Approval Date: May 12, 2024.

14. RENEWAL—SWN Production Company, LLC; Pad ID: Seamans Pad; ABR-201204022.R2; Harford Township, Susquehanna County, Pa.; Consumptive Use of Up to 4.9990 mgd; Approval Date: May 12, 2024.

15. RENEWAL—SWN Production Company, LLC; Pad ID: Walker Pad; ABR-201204023.R2; Jackson Township, Susquehanna County, Pa.; Consumptive Use of Up to 4.9990 mgd; Approval Date: May 12, 2024.

16. RENEWAL—Chesapeake Appalachia, L.L.C.; Pad ID: Blanchard Drilling Pad; ABR-201405002.R2; McNett Township, Lycoming County, Pa.; Consumptive Use of Up to 7.5000 mgd; Approval Date: May 16, 2024.

17. RENEWAL—Inflection Energy (PA) LLC; Pad ID: TLC Pad; ABR-201405004.R2; Eldred Township, Lycoming County, Pa.; Consumptive Use of Up to 4.0000 mgd; Approval Date: May 16, 2024.

18. RENEWAL—Repsol Oil & Gas USA, LLC; Pad ID: BENSE (01 025/070) B; ABR-20090509.R3; Troy Township, Bradford County, Pa.; Consumptive Use of Up to 6.0000 mgd; Approval Date: May 16, 2024.

19. RENEWAL—Repsol Oil & Gas USA, LLC; Pad ID: CEASE (01 005/008) R; ABR-20090506.R3; Troy Township, Bradford County, Pa.; Consumptive Use of Up to 6.0000 mgd; Approval Date: May 16, 2024.

20. RENEWAL—Seneca Resources Company, LLC; Pad ID: PHC 9H; ABR-20090503.R3; Lawrence Township, Clearfield County, Pa.; Consumptive Use of Up to 4.0000 mgd; Approval Date: May 16, 2024.

21. RENEWAL—Chesapeake Appalachia, L.L.C.; Pad ID: Black Unit #1H; ABR-20090517.R3; Burlington Township, Bradford County, Pa.; Consumptive Use of Up to 7.5000 mgd; Approval Date: May 23, 2024.

22. RENEWAL—Chesapeake Appalachia, L.L.C.; Pad ID: Harper Unit #1H; ABR-20090515.R3; West Burlington Township, Bradford County, Pa.; Consumptive Use of Up to 7.5000 mgd; Approval Date: May 23, 2024.

23. RENEWAL—Chesapeake Appalachia, L.L.C.; Pad ID: Hart; ABR-201205009.R2; Wyalusing Township, Bradford County, Pa.; Consumptive Use of Up to 7.5000 mgd; Approval Date: May 23, 2024.

24. RENEWAL—Chesapeake Appalachia, L.L.C.; Pad ID: Maris; ABR-201205010.R2; Auburn Township, Susquehanna County, Pa.; Consumptive Use of Up to 7.5000 mgd; Approval Date: May 23, 2024.

25. RENEWAL—Seneca Resources Company, LLC; Pad ID: Wilcox Pad F; ABR-20090505.R3; Covington Township, Tioga County, Pa.; Consumptive Use of Up to 4.0000 mgd; Approval Date: May 23, 2024.

26. RENEWAL—EQT ARO LLC; Pad ID: Little Fawn Pad A; ABR-201905004.R1; Cascade Township, Lycoming County, Pa.; Consumptive Use of Up to 4.0000 mgd; Approval Date: May 26, 2024.

27. RENEWAL—Seneca Resources Company, LLC; Pad ID: DCNR 100 Pad P; ABR-201205011.R2; Lewis Township, Lycoming County, Pa.; Consumptive Use of Up to 4.0000 mgd; Approval Date: May 26, 2024.

28. RENEWAL—SWN Production Company, LLC; Pad ID: TONYA EAST; ABR-201204012.R2; Great Bend and New Milford Townships, Susquehanna County, Pa.; Consumptive Use of Up to 4.9990 mgd; Approval Date: May 26, 2024.

29. RENEWAL—EQT ARO LLC; Pad ID: David C Duncan Pad B; ABR-201905005.R1; Cascade Township, Lycoming County, Pa.; Consumptive Use of Up to 4.0000 mgd; Approval Date: May 28, 2024.

30. Seneca Resources Company, LLC; Pad ID: Bechtel 674; ABR-202405002; Richmond and Covington Townships, Tioga County, Pa.; Consumptive Use of Up to 4.0000 mgd; Approval Date: May 28, 2024.

31. RENEWAL—Chesapeake Appalachia, L.L.C.; Pad ID: Hannan; ABR-20090520.R3; Troy Township, Bradford County, Pa.; Consumptive Use of Up to 7.5000 mgd; Approval Date: May 31, 2024.

32. RENEWAL—Chesapeake Appalachia, L.L.C.; Pad ID: Isbell; ABR-20090521.R3; Burlington Township, Bradford County, Pa.; Consumptive Use of Up to 7.5000 mgd; Approval Date: May 31, 2024.

33. RENEWAL—Chesapeake Appalachia, L.L.C.; Pad ID: Ward; ABR-20090519.R3; West Burlington Township, Bradford County, Pa.; Consumptive Use of Up to 7.5000 mgd; Approval Date: May 31, 2024.

Authority: Public Law 91-575, 84 Stat. 1509 et seq., 18 CFR parts 806 and 808.

Dated: June 17, 2024.
Jason E. Oyler,
General Counsel and Secretary to the Commission.

[FR Doc. 2024-13651 Filed 6-20-24; 8:45 am]

BILLING CODE 7040-01-P